DEPARTMENT OF THE INTERIOR

Bureau of Land Management

[AK-932-1430-ET; AA-50224]

Public Land Order No. 7683; Extension of Public Land Order No. 6676; Alaska

AGENCY: Bureau of Land Management, Interior.

ACTION: Public land order.

SUMMARY: This order extends the withdrawal created by Public Land Order No. 6676 for an additional 20-year period. This extension is necessary to continue protection of the United States Department of Agriculture, Forest Service Cape Fanshaw Natural Area.

DATES: Effective Date: May 23, 2008.

FOR FURTHER INFORMATION CONTACT: Terrie D. Evarts, Bureau of Land Management, Alaska State Office, 222 W. 7th Avenue, No. 13, Anchorage, Alaska 99513-7504, 907-271-5630.

SUPPLEMENTARY INFORMATION:

Order

By virtue of the authority vested in the Secretary of the Interior by Section 204 of the Federal Land Policy and Management Act of 1976, 43 U.S.C. 1714 (2000), it is ordered as follows:

1. Public Land Order No. 6676 (53 FR 18282, May 23, 1988), which withdrew approximately 600 acres of National Forest System land from settlement, sale, location, or entry under the general land laws, including the United States mining laws (30 U.S.C. Ch. 2 (2000)), is hereby extended for an additional 20-year period.

2. Public Land Order No. 6676 will expire on May 22, 2028, unless, as a result of a review conducted prior to the expiration date pursuant to Section 204(f) of the Federal Land Policy and Management Act of 1976, 43 U.S.C. 1714(f) (2000), the Secretary determines that the withdrawal shall be extended.

Dated: December 10, 2007.
C. Stephen Allred,
Assistant Secretary—Land and Minerals Management.

[FR Doc. E7-25450 Filed 12-31-07; 8:45 am]

BILLING CODE 3410-11-P